DEPARTMENT OF HOMELAND SECURITY

Coast Guard

33 CFR Part 117

[Docket No. USCG-2014-0912]

Drawbridge Operation Regulation; Lake Washington Ship Canal, Seattle, WA

AGENCY: Coast Guard, DHS.

ACTION: Notice of temporary deviation from regulations.

SUMMARY: The Coast Guard has issued a temporary deviation from the operating schedule that governs the Seattle Department of Transportation (SDOT) double leaf bascule Ballard Bridge across the Lake Washington Ship Canal, mile 1.1, at Seattle, WA. The requested deviation is to accommodate evening detoured commuter traffic during road construction. This deviation allows the bridge to remain in the closed position for an extra hour during evening traffic.

DATES: This deviation is effective from 4 p.m. until 7 p.m. daily Monday through Friday, excluding federal holidays, from November 19, 2014 until January 31, 2015.

ADDRESSES: The docket for this deviation, [USCG-2014-0912] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email d13-pf-d13bridges@uscg.mil. If you have questions on viewing the docket, call Cheryl Collins, Program Manager, Docket Operations, telephone 202-366-9826.

SUPPLEMENTARY INFORMATION: SDOT has requested a temporary deviation from the operating schedule for the Ballard Bridge, mile 1.1, crossing the Lake Washington Ship Canal at Seattle, WA. The requested deviation is to accommodate evening detoured commuter traffic during road construction. To facilitate timely efficient movement of highway traffic, the currently published drawbridge closure hours will be extended by one hour. The extended closure hours will be from 4 p.m. to 7 p.m. daily Monday through Friday, excluding federal holidays, from November 19, 2014 until January 31, 2015.

The Ballard Bridge, mile 1.1, provides a vertical clearance of 29 feet in the closed position; clearances are referenced to the mean water elevation of Lake Washington. The current operating schedule for the bridge is set out in 33 CFR 117.1051. The normal operating schedule for the Ballard Bridge states that the bridge need not open from 7 a.m. to 9 a.m. and from 4 p.m. to 6 p.m. Monday through Friday, except federal holidays but Columbus Day for vessels less than 1000 tons, unless the vessel has in tow a vessel of 1000 gross tons or more. The normal operating schedule for the bridge also requires one hour advance notification for bridge openings between 11 p.m. and 7 a.m. daily. Waterway usage on the Lake Washington Ship Canal ranges from commercial tug and barge to small pleasure craft. Vessels able to pass through the bridge in the closed positions may do so at anytime. The bridge will not be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: October 31, 2014.
Steven M. Fischer,
Bridge Administrator, Thirteenth Coast Guard District.

[FR Doc. 2014-27008 Filed 11-13-14; 8:45 am]

BILLING CODE 9110-04-P